DEPARTMENT OF DEFENSE

48 CFR Parts 203, 209, 225, and 249

[DFARS Case 99-DO13]

Defense Federal Acquisition Regulation Supplement; Debarment Investigation and Reports

Correction

In rule document 99-29984 beginning on page 62984 in the issue of Thursday, November 18, 1999, make the following corrections:

203.104-10 [Corrected]

1.On page 62984, in the third column,ÿ7Eÿ7Eÿ7Eÿ7Eÿ7E“Violation” should read, “Violations”.

209.406-3 [Corrected]

2.On page 62985, in the second column, in Section 209.406-3(a)(ii)(F)(4), “claims” should read,“Claims”.

206.406-3(b)(i)(B) [Corrected]

3.On the same page, in the third column, in Section 209.406-3(b)(i)(B), “spending” should read, “suspending”.

209.407-3(d) [Corrected]

4.On page 62986, in the first column, under Section 209.407-3(d), in the first line, in the title heading ÿ7Eÿ7Eÿ7Eÿ7Eÿ7E“official's s” should read, “official's”.

[FR Doc. C9-29984 Filed 1-31-00; 8:45 am]

BILLING CODE 5000-04-M

POSTAL SERVICE

39 CFR Part 111

Barcode Requirements for Special Services Labels

Correction

In rule document 00-1570 beginning on page 3609, in the issue of Monday, January 24, 2000, make the following correction:

PART 111 [CORRECTED]

On page 3610, in the third column, in section 3.4 of the Domestic Mail Manual (DMM), the illustration was inadvertently omitted. Exhibit 3.4, Label 200, is added below:

[FR Doc. C0-1570 Filed 1-31-00; 8:45 am]

BILLING CODE 1505-01-D